NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on June 6-8, 2007, 11545 Rockville Pike, Rockville, Maryland. The date of this meeting was previously published in the Federal Register on Wednesday, November 15, 2006 (71 FR 66561).

Wednesday, June 6, 2007, Conference Room T-2B3, Two White Flint North, Rockville, Maryland

8:30 a.m.-8:35 a.m.: Opening Remarks by the ACRS Chairman (Open)—The ACRS Chairman will make opening remarks regarding the conduct of the meeting.

8:35 a.m.-10 a.m.: Draft NUREG-1852, “Demonstrating the Feasibility and Reliability of Operator Manual Actions in Response to Fire” (Open)—The Committee will hear presentations by and hold discussions with representatives of the NRC staff regarding NUREG-1852 and related matters.

10:15 a.m.-12:15 a.m.: Maximum Extended Load and Line Limit Analysis Plus (MELLLA+) and Supporting Topical Reports (Open)—The Committee will hear presentations by and hold discussions with representatives of the NRC staff and General Electric Nuclear Energy (GENE) regarding GENE's MELLLA+ and supporting Topical Reports, and related matters.

1:15 p.m.-3:15 p.m.: Overview of the PHEBUS-FP Experimental Program and Results of Recent Tests (Open)—The Committee will hear presentations by and hold discussions with representatives of the NRC staff regarding the PHEBUS-FP experimental program and results of recent tests.

3:30 p.m.-3:45 p.m.: Subcommittee Report (Open)—The Committee will hear a report by the Chairman of the ACRS Plant License Renewal Subcommittee regarding interim review of the license renewal application for the Vermont Yankee Nuclear Plant.

3:45 p.m.-4:45 p.m.: Status Report on the Quality Assessment of Selected NRC Research Projects (Open)—The Committee will hold discussions with the members of the ACRS panels regarding the status of their assessment of the quality of the NRC research projects on: Fatigue Crack Flaw Tolerance in Nuclear Power Plant Piping, and Technical Review of the Online Monitoring Techniques for Performance Assessment.

5 p.m.-7 p.m.: Preparation of ACRS Reports (Open)—The Committee will discuss proposed ACRS reports on matters considered during this meeting.

Thursday, June 7, 2007, Conference Room T-2B3, Two White Flint North, Rockville, Maryland

8:30 a.m.-8:35 a.m.: Opening Remarks by the ACRS Chairman (Open)—The ACRS Chairman will make opening remarks regarding the conduct of the meeting.

8:35 a.m.-9:30 a.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

9:30 a.m.-9:45 a.m.: Reconciliation of ACRS Comments and Recommendations (Open)—The Committee will discuss the responses from the NRC Executive Director for Operations to comments and recommendations included in recent ACRS reports and letters.

10 a.m.-10:30 a.m.: Election of Member-at-Large (Open)—The Committee will elect a Member-at-Large for the ACRS Subcommittee on Planning and Procedures.

10:30 a.m.-12:15 p.m.: Preparation for Meeting with the NRC Commissioners (Open)—The Committee will discuss the following topics scheduled for discussion during the meeting with the NRC Commissioners on June 7, 2007: Framework for Future Plant Licensing, Digital I&C Activities, License Renewal/Extended Power Uprates, and Human Reliability Analysis Models.

1:30 p.m.-3:00 p.m.: Meeting with the Commission (Open)—The Committee will meet with the Commission, Commissioners' Conference Room, One White Flint North to discuss the items noted above.

4 p.m.-7 p.m.: Preparation of ACRS Reports (Open)—The Committee will discuss proposed ACRS reports.

Friday, June 8, 2007, Conference Room T-2B3, Two White Flint North, Rockville, Maryland

8:30 a.m.-10:30 a.m.: Preparation of ACRS Reports (Open)—The Committee will continue discussion of proposed ACRS reports.

10:45 p.m.-1 p.m.: ACRS Member's Issues Associated with the Technology-Neutral Framework for Future Plant Licensing (Open)—The Committee will discuss and decide on individual member's issues associated with the technology-neutral framework for future plant licensing.

1 p.m.-1:30 p.m.: Miscellaneous (Open)—The Committee will discuss matters related to the conduct of Committee activities and matters and specific issues that were not completed during previous meetings, as time and availability of information permit.

Procedures for the conduct of and participation in ACRS meetings were published in the Federal Register on October 2, 2006 (71 FR 58015). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

Further information regarding topics to be discussed, whether the meeting has been canceled or rescheduled, as well as the Chairman's ruling on requests for the opportunity to present oral statements and the time allotted therefor can be obtained by contacting Mr. Sam Duraiswamy, Cognizant ACRS staff (301-415-7364), between 7:30 a.m. and 4 p.m., (ET). ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/(ACRS_&_ACNW_Mtg schedules/agendas).

Video teleconferencing service is available for observing open sessions of ACRS meetings. Those wishing to use this service for observing ACRS meetings should contact Mr. Theron Brown, ACRS Audio Visual Technician (301-415-8066), between 7:30 a.m. and 3:45 p.m., (ET), at least 10 days before the meeting to ensure the availability of this service. Individuals or organizations requesting this service will be responsible for telephone line charges and for providing the equipment and facilities that they use to establish the video teleconferencing link. The availability of video teleconferencing services is not guaranteed.

Dated: May 14, 2007.
Andrew L. Bates,
Advisory Committee Management Officer.

[FR Doc. E7-9650 Filed 5-17-07; 8:45 am]

BILLING CODE 7590-01-P